DEPARTMENT OF HEALTH AND HUMAN SERVICES

Surgeon General's Conference on the Prevention of Preterm Birth

AGENCY: Department of Health and Human Services, Office of the Secretary.

ACTION: Notice.

SUMMARY: The Surgeon General's Office, in conjunction with the National Institutes of Health, is hosting a conference titled: Surgeon General's Conference on the Prevention of Preterm Birth. The conference is open to the public.

DATES: The conference will be held on June 17, 2008 from 8 a.m. until 6 p.m.

ADDRESSES: Bethesda North Marriott Hotel and Conference Center, 5701 Marinelli Road, Rockville, Maryland 20852; (301) 822-9200.

FOR FURTHER INFORMATION CONTACT: Dr. Michele Kiely, Office of the Surgeon General, Department of Health and Human Services, Room 18-66, Parklawn Building, 5600 Fishers Lane, Rockville, Maryland 20857; 301-443-0448, Michele.Kiely@hhs.gov.

SUPPLEMENTARY INFORMATION: Preterm birth (PTB) remains one of the most complicated research and public health problems in obstetrics and pediatrics. Nearly 12 percent of all babies in the United States are born preterm, and this rate continues to rise.

To underscore the importance of the problem, the United States Congress passed Public Law 109-450, the Prematurity Research Expansion and Education for Mothers Who Deliver Infants Early Act (PREEMIE Act). The Secretary of Health and Human Services, acting through the Surgeon General of the U.S. Public Health Service, shall convene a conference to address the growing epidemic of preterm birth.

The purpose of the conference will be to:

1. Increase awareness of preterm birth as a serious, common, and costly public health problem;

2. Review the findings and reports issued by the Interagency Coordinating Council, key stakeholders, and any other relevant entities; and,

3. Establish an agenda for activities in both the public and private sectors to address the identification of, treatments for, causes of, and risk factors for preterm labor and delivery.

The Office of the Surgeon General, in partnership with public and private organizations, identified selected experts and community leaders from the research, public health, and medical communities committed to preventing preterm birth. Six (6) workgroups will be charged with reviewing the available published literature in advance of the conference, including recommendations from the Institute of Medicine report on Preterm Birth and emerging literature concerning activities needed to help prevent preterm birth. The workgroups will focus on specific key areas with the goal of establishing a national agenda and action plan for both the public and private sectors to address the identification of, treatments for, causes of, and risk factors for preterm labor and delivery. Each workgroup will be challenged to determine what action steps need to be taken to translate what we know into what needs to be done. The workgroups will also outline plans for future research to obtain answers to unresolved questions.

The work groups will focus on the key areas of (1) Biomedical Research, (2) Epidemiological Research, (3) Psychosocial and Behavioral Contributors to Preterm Birth, (4) Professional Education and Training, (5) Public Communication and Outreach, and (6) Quality of Care and Health Services.

On Tuesday, June 17, the work groups will present a statement of their collective assessment and a proposed national agenda to a general audience. Information useful in developing future strategies to address this public health concern will be presented in the final session of the conference.

Advance information about the conference and registration materials can be found at http://www.surgeongeneral.gov/ under Features. Click on Surgeon General's Conference on Preventing Preterm Birth, June 16-17, 2008. Public attendance is limited to June 17, 2008 on a space-available basis. Pre-registration at the conference Web site is recommended. If space is available on the date of the conference, registration will be available at the door beginning at 7 a.m. Members of the public will have an opportunity to provide comments at the conference. Public comments will be limited to three minutes per speaker. Materials will be made available at the Web site several weeks before the meeting. Any members of the public who wish to share their views with the work groups before sessions begin can do so at the Web site prior to close of business on June 9, 2008. Additionally, the event will be live video/Webcast and can be viewed during the conference at http://videocast.nih.gov.

Individuals who plan to attend and need special assistance, such as sign language interpretation or other reasonable accommodations, should notify the designated contact person.

Dated: May 28, 2008.
Steven K. Galson,
RADM, USPHS, Acting Surgeon General.

[FR Doc. E8-12341 Filed 6-2-08; 8:45 am]

BILLING CODE 4140-01-P